DEPARTMENT OF LABOR

Employment and Training Administration

[TA-W-60,962 and TA-W-60,962A]

Mitchel Manufacturing, a Division of Quaker Lace, Honea Path, SC; Mitchel Manufacturing, a Division of Quaker Lace Showroom/Sales Office, New York, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on February 23, 2007, applicable to workers of Mitchel Manufacturing, a division of Quaker Lace, Honea Path, South Carolina. The notice was published in the Federal Register on March 8, 2007 (72 FR 10561).

At the request of the State agency, the Department reviewed the certification for workers of the subject firm. The workers are engaged in the production of lace curtains and tablecloths.

New information shows that a worker separation occurred at the Showroom/Sales Office, New York, New York facility of the subject firm. The New York, New York location served as the showroom/sales office for the subject firms' production facility in Honea Path, South Carolina.

Based on these findings, the Department is amending the certification to include a worker of the Showroom/Sales Office, New York, New York location of Mitchel Manufacturing, a division of Quaker Lace.

The intent of the Department's certification is to include all workers of Mitchel Manufacturing, a division of Quaker Lace, Honea Path, South Carolina and the Showroom/Sales Office, New York, New York who were adversely affected by increased company imports.

The amended notice applicable to TA-W-60,962 is hereby issued as follows:

All workers of Mitchel Manufacturing, a division of Quaker Lace Honea Path, South Carolina (TA-W-60,962) and Mitchel Manufacturing, a division of Quaker Lace, Showroom/Sales Office, New York, New York (TA-W-60,962A), who became totally or partially separated from employment on or after February 6, 2006, through February 23, 2009, are eligible to apply for adjustment assistance under Section 223 of the Trade Act of 1974 and are also eligible to apply for alternative trade adjustment assistance under Section 246 of the Trade Act of 1974.

Signed at Washington, DC this 25th day of May 2007.
Elliott S. Kushner,
Certifying Officer, Division of Trade Adjustment Assistance.

[FR Doc. E7-11027 Filed 6-6-07; 8:45 am]

BILLING CODE 4510-FN-P